U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on May 4, 2017 on “China's Information Controls, Global Media Influence, and Cyber Warfare Strategy”.

DATES: The meeting is scheduled for Thursday, May 4, 2017, from 9:30 a.m. to 3:20 p.m.

ADDRESSES: TBD, Washington, DC. A detailed agenda for the hearing will be posted on the Commission's Web site at www.uscc.gov. Also, please check the Commission's Web site for possible changes to the hearing schedule. Reservations are not required to attend the hearing.

FOR FURTHER INFORMATION CONTACT: Any member of the public seeking further information concerning the hearing should contact Leslie Tisdale, 444 North Capitol Street NW., Suite 602, Washington, DC 20001; telephone: 202-624-1496, or via email at ltisdale@uscc.gov. Reservations are not required to attend the hearing.

SUPPLEMENTARY INFORMATION:

Background: This is the fifth public hearing the Commission will hold during its 2017 report cycle. This hearing will examine the mechanisms the Chinese government uses to censor information in China and the effectiveness of these mechanisms; the methods employed by Internet users in China to circumvent these mechanisms; the implications for the United States of China's attempts to export and normalize its information control practices; China's global media influence, to include its strategic soft power goals motivating acquisitions of U.S. film studios and cinemas and its influence over foreign news; the development of Chinese journalism and the degree of freedom currently allowed to Chinese and foreign reporters in China; China's influence on media in the United States; Chinese computer network operations doctrine; China's views of internet sovereignty and attempts to promote them abroad; views of experts and strategists in China on subjects such as deterrence in cyber space; and trends in the regulation of cyberspace and cyber conflict. The hearing will be co-chaired by Chairman Carolyn Bartholomew and Commissioner Larry Wortzel. Any interested party may file a written statement by May 4, 2017, by mailing to the contact information above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 17, 2017.
Michael Danis,
Executive Director, U.S.-China Economic and Security Review Commission.

[FR Doc. 2017-08133 Filed 4-20-17; 8:45 am]

BILLING CODE 1137-00-P